OFFICE OF PERSONNEL MANAGEMENT

Federal Prevailing Rate Advisory Committee; Cancellation of Upcoming Virtual Public Meeting

AGENCY: Office of Personnel Management.

ACTION: Notice.

SUMMARY: The Federal Prevailing Rate Advisory Committee is issuing this notice to cancel the February 18, 2021, public meeting scheduled to be held via teleconference, beginning at 10:00 a.m. (EDT). The Federal Register notice announcing this virtual public meeting was published Wednesday, January 13, 2021, at 86 FR 2709.

FOR FURTHER INFORMATION CONTACT: Mark Allen, 202-606-2858, or email pay-leave-policy@opm.gov.

Office of Personnel Management.
Alexys Stanley,
Regulatory Affairs Analyst.

[FR Doc. 2021-01825 Filed 1-27-21; 8:45 am]

BILLING CODE 6325-49-P